DEPARTMENT OF DEFENSE

Department of the Air Force

[ARX-220921A-PL]

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive patent license (in the fields of commercial and defense composite manufacturing using structural bonding; load bearing bonding; and electrical bonding) to Unmanned Systems Incorporated—DBA Albers Aerospace, a C Corporation duly organized, validly existing, and in good standing in the State of Nevada, having a place of business at 1476 Industrial Blvd., McKinney TX.

DATES: Written objections must be filed no later than fifteen (15) calendar days after the date of publication of this Notice.

ADDRESSES: Submit written objections to Jeremy Gratsch, AFRL/RXOP, 2977 Hobson Way, Building 653, Wright-Patterson AFB, OH 45433; Phone: 937-255-0017; or Email: AFRL.RX.T2@us.af.mil. Include Docket No. ARX-220921A-PL in the subject line of the message.

FOR FURTHER INFORMATION CONTACT: Jeremy Gratsch, AFRL/RXOP, 2977 Hobson Way, Building 653, Wright-Patterson AFB, OH 45433; Phone: 937-255-0017; or Email: AFRL.RX.T2@us.af.mil.

Abstract of Patent Application(s)

The present invention discloses cured composites having improved surfaces and processes of making and methods of using same. Such processes use ultra-short pulse lasers, for example, a femto-second laser to ablate material without the detrimental heat affected zones of other laser processes. Such process can not only increases surface roughness and clean contaminates, but can also selectively remove the matrix material and expose the surface fibers of cured composites. The treated cured composites have improved thermal and electrical pathways that can dissipate unwanted heat and electricity when two or more prepregs and/or cured composites are bonded or cured to form a single article.

Intellectual Property

U.S. Application Publication No. 2022/0274369, published on 1 September 2022, and entitled PREPREGS AND CURED COMPOSITES HAVING IMPROVED SURFACES AND PROCESSES OF MAKING AND METHODS OF USING SAME.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Mia Day,
Acting Air Force Federal Register Liaison Officer.

[FR Doc. 2023-09343 Filed 5-2-23; 8:45 am]

BILLING CODE 5001-10-P